DEPARTMENT OF TRANSPORTATION

Federal Aviation Administration

14 CFR Part 39

[Docket No. 98-NM-94-AD; Amendment 39-11636; AD 2000-05-26]

RIN 2120-AA64

Airworthiness Directives; Aerospatiale Model ATR42-200, ATR42-300, and ATR42-320 Series Airplanes

AGENCY: Federal Aviation Administration, DOT.

ACTION: Final rule.

SUMMARY: This amendment supersedes an existing airworthiness directive (AD), applicable to certain Aerospatiale Model ATR42-300 and ATR42-320 series airplanes, that currently requires inspections to determine the proper installation of rivets in certain key holes and to detect cracks in the area of the key holes where rivets are missing; and correction of discrepancies. This amendment increases the compliance time for the existing requirements and expands the applicability of the existing AD to include additional airplanes. This action also requires various inspections of the subject area for discrepancies, and corrective actions, if necessary; and replacement of certain cargo door hinges with new hinges. For certain airplanes, this action also requires replacement of friction plates, stop fittings, and bolts with new parts. This amendment is prompted by issuance of mandatory continuing airworthiness information by a foreign civil airworthiness authority. The actions specified by this AD are intended to prevent fatigue cracks of the cargo door skin, certain frames, and entry door stop fittings and friction plates, which could result in reduced structural integrity of the airplane.

DATES: Effective April 26, 2000.

The incorporation by reference of certain publications listed in the regulations is approved by the Director of the Federal Register as of April 26, 2000.

The incorporation by reference of Avions de Transport Regionale (ATR) Service Bulletin ATR42-53-0070, Revision 2, dated March 22, 1993, was approved previously by the Director of the Federal Register as of November 18, 1993 (58 FR 53853, October 19, 1993).

ADDRESSES: The service information referenced in this AD may be obtained from Aerospatiale, 316 Route de Bayonne, 31060 Toulouse, Cedex 03, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding 93-18-04, amendment 39-8689 (58 FR 53853, October 19, 1993), which is applicable to certain Aerospatiale Model ATR42-300 and ATR42-320 series airplanes, was published in the Federal Register on October 25, 1999 (64 FR 57409). The action proposed to increase the compliance time for the existing requirements and expand the applicability of the existing AD to include additional airplanes. The action also proposed to require various inspections of the subject area for discrepancies, and corrective actions, if necessary; and replacement of certain cargo door hinges with new hinges. For certain airplanes, the action also proposed to require replacement of friction plates, stop fittings, and bolts with new parts.

Interested persons have been afforded an opportunity to participate in the making of this amendment. Due consideration has been given to the comments received.

Approved Repairs

One commenter, an operator, expresses concern that paragraphs (c) and (d)(2)(ii) of the proposed AD mandate that any repairs, previously conducted through Aerospatiale, now must be approved by the Manager, International Branch, ANM-116, Transport Airplane Directorate, FAA; or the Direction Génrale de l'Aviation Civile (DGAC) (or its delegated agent). The commenter is concerned that, if the only resources for repair approvals are those mentioned here, any repair approval process will not be responsive on a timely basis. The commenter states that notification to the Manager, ANM-116, of damage found and the repair method used, following embodiment, would be more appropriate.

The FAA infers that the commenter is requesting that the AD be revised to allow repair approvals through Aerospatiale, with subsequent notification to the Manager, ANM-116. The FAA does not concur. To specify within an AD that repairs are to be accomplished in accordance with the manufacturer would be delegating the FAA's rulemaking authority to the manufacturer. Since the referenced service information does not provide appropriate repair procedures, the FAA must require that operators accomplish necessary repairs in accordance with a method approved by the FAA or the DGAC (or its delegated agent). The FAA notes that, if Aerospatiale has been designated by the DGAC as a delegated agent for repair approvals, such approvals by Aerospatiale would be acceptable for compliance with this AD. No change to the AD is necessary.

Prior Repairs

The same commenter notes that there should be some consideration for airplanes on which the modification has already been accomplished with some form of repair (prior to the effective date of the AD). As written, the AD would require that any such repair be “reapproved” by the FAA or DGAC.

The FAA does not concur. As noted in the FAA's response to the previous comment, repairs approved by Aerospatiale may be acceptable for compliance with this AD, if Aerospatiale is a delegated agent of the DGAC for such repairs. If this is the case, no “reapproval” is necessary, since such approved repairs would be acceptable for compliance with the requirements of this AD. Further, sufficient time is provided prior to the compliance thresholds of this AD to allow operators to determine if approvals must be obtained for previously accomplished repairs, and to obtain such approvals, if necessary. No change to the AD is necessary.

Service Bulletin Revisions

The same commenter requests that the proposed AD be revised to include later revisions of two service bulletins, and notes that the changes made do not affect the technical content of either bulletin. The commenter states that ATR Service Bulletin ATR42-53-0070, Revision 3, dated February 19, 1999, is the most current version and should be included in paragraph (a) of the AD. The commenter also states that ATR Service Bulletin ATR42-53-0076, Revision 3, dated February 19, 1999, has been released and should be included in paragraph (d) of the AD. Revision 2 of each of these service bulletins was cited as the appropriate source of service information in the referenced paragraph of the proposed AD.

The FAA concurs. The FAA has reviewed the referenced service bulletins and agrees that equivalent technical information is contained in the later revisions of the service bulletins. The FAA has revised paragraphs (a) and (d) of the final rule to include these revisions as appropriate sources of service information.

Conclusion

After careful review of the available data, including the comments noted above, the FAA has determined that air safety and the public interest require the adoption of the rule with the changes previously described. The FAA has determined that these changes will neither increase the economic burden on any operator nor increase the scope of the AD.

Cost Impact

There are approximately 106 airplanes of U.S. registry that will be affected by this AD.

The general visual inspection of fuselage frames 25 and 27 that is required by this AD will take approximately 3 work hours per airplane to accomplish, at an average labor rate of $60 per work hour. Based on these figures, the cost impact of this inspection required by this AD on U.S. operators is estimated to be $180 per airplane.

The cargo door hinge and skin replacement that is required by this AD will take approximately 250 work hours per airplane to accomplish, at an average labor rate of $60 per work hour. Required parts will cost approximately $9,880 per airplane. Based on these figures, the cost impact of the door structure replacement required by this AD on U.S. operators is estimated to be $24,880 per airplane.

The general visual inspection of the key and tooling holes that is required by this AD will take approximately 100 work hours per airplane to accomplish, at an average labor rate of $60 per work hour. Based on these figures, the cost impact of this inspection required by this AD on U.S. operators is estimated to be $6,000 per airplane.

The eddy current and detailed visual inspections of the forward entry door stop fitting and friction plate that are required by this AD will take approximately 2 work hours per airplane to accomplish, at an average labor rate of $60 per work hour. Based on these figures, the cost impact of this inspection required by this AD on U.S. operators is estimated to be $120 per airplane.

The replacement of the forward entry door stop fitting, friction plate, and upper door corner that is required in this AD action will take approximately 50 work hours per airplane to accomplish. The manufacturer has committed previously to its customers that it will bear the cost of replacement parts. As a result, the cost of those parts is not attributable to this AD. Based on this figure, the cost impact of the replacement required by this AD on U.S. operators is estimated to be $3,000 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8689 (58 FR 53853, October 19, 1993), and by adding a new airworthiness directive (AD), amendment 39-11636, to read as follows:

2000-05-26 Aerospatiale: Amendment 39-11636. Docket 98-NM-94-AD. Supersedes AD 93-18-04, Amendment 39-8689.

Applicability: All Model ATR42-200, ATR42-300, and ATR42-320 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Required as indicated, unless accomplished previously.

To prevent fatigue cracks of the cargo door skin, certain frames, entry door stop fittings, or friction plates, which could result in reduced structural integrity of the airplane, accomplish the following:

Frame 25 and 27 Inspection

(a) For airplanes having serial numbers 005 through 016 inclusive, 018 through 030 inclusive, 032 through 036 inclusive, 038, 040, 042, 043, 048 through 062 inclusive, 064 through 090 inclusive, 092 through 094 inclusive, and 096 through 228 inclusive: Prior to the accumulation of 36,000 total flight cycles, or within 180 days after the effective date of this AD, whichever occurs later, conduct a general visual inspection of fuselage frames 25 and 27 to verify the proper installation of a rivet in each of the key holes, in accordance with Avions de Transport Regional (ATR) Service Bulletin ATR42-53-0070, Revision 2, dated March 22, 1993, or Revision 3, dated February 19, 1999.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being check.”

Note 3: Inspection of fuselage frames 25 and 27 accomplished prior to the effective date of this AD in accordance with ATR Service Bulletin ATR42-53-0070, dated June 10, 1991, or Revision 1, dated June 12, 1992, is considered acceptable for compliance with the requirements of paragraph (a) of this AD.

(1) If a rivet is installed in each of the key holes, no further action is required by this paragraph.

(2) If a rivet is not installed in each of the key holes, prior to further flight, perform an eddy current inspection of each open key hole to detect cracks, in accordance with the service bulletin.

(i) If no crack is found during the eddy current inspection, prior to further flight, install a rivet in the open key hole in accordance with the service bulletin. After such installation, no further action is required by this paragraph for that key hole.

(ii) If any crack is found during the eddy current inspection, prior to further flight, repair the crack in accordance with a method approved by the Manager, International Branch, ANM-116, FAA, Transport Airplane Directorate, or the Direction Générale de l'Aviation Civile (DGAC) (or its delegated agent). For a repair method to be approved by the Manager, International Branch, ANM-116, as required by this paragraph, the Manager's approval letter must specifically reference this AD.

Inspection and Modification of Cargo Door Structure

(b) For airplanes equipped with a cargo compartment door on which Aerospatiale Modification 3191 has not been accomplished: Prior to the accumulation of 27,000 total flight cycles, or within 180 days after the effective date of this AD, whichever occurs later, except as provided by paragraph (c) of this AD, replace the hinges on the cargo compartment door and fuselage (including inspections for fastener type and tolerances, hole diameters, or cracking, and repair; as applicable) with new improved hinges, in accordance with paragraph 2. of the Accomplishment Instructions of ATR Service Bulletin ATR42-52-0058, Revision 1, dated March 1, 1995.

(c) Where the instructions in ATR Service Bulletin ATR42-52-0058, Revision 1, dated March 1, 1995, specify that ATR is to be contacted for a repair, prior to further flight, repair in accordance with a method approved by the Manager, International Branch, ANM-116, or the DGAC (or its delegated agent).

Frame Inspection

(d) For airplanes having serial numbers 003 through 208 inclusive: Prior to the accumulation of 36,000 total flight cycles, or within 180 days after the effective date of this AD, whichever occurs later, conduct a general visual inspection of the identified fuselage frames for proper installation of a rivet in each of the tooling and key holes, in accordance with ATR Service Bulletin ATR42-53-0076, Revision 2, dated October 15, 1996, or Revision 3, dated February 19, 1999.

(1) If a rivet is installed in each of the tooling or key holes, no further action is required by this paragraph.

(2) If a rivet is not installed in each of the tooling and key holes, prior to further flight, perform a detailed visual inspection of each open tooling or key hole to detect cracks, in accordance with the service bulletin.

Note 4: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc. may be used. Surface cleaning and elaborate access procedures may be required.”

(i) If no crack is found during the detailed visual inspection required by paragraph (d)(2) of this AD, prior to further flight, install a rivet in the open hole in accordance with the service bulletin.

(ii) If any crack is found during the visual inspection required by paragraph (d)(2) of this AD, prior to further flight, repair the crack in accordance with a method approved by the Manager, International Branch, ANM-116, or the DGAC (or its delegated agent).

Inspection and/or Replacement of Entry Door Structure

(e) For Model ATR42-300 series airplanes having serial numbers listed in ATR Service Bulletin ATR42-52-0052, Revision 1, dated March 2, 1993: Except as provided by paragraph (f) of this AD, prior to the accumulation of 10,000 total flight cycles, or within 90 days after the effective date of this AD, whichever occurs later, accomplish the requirements of paragraphs (e)(1) and (e)(2) of this AD.

(1) Perform an eddy current inspection of the forward entry door stop holes to detect cracking, in accordance with the service bulletin. If any cracking is detected, prior to further flight, replace any cracked forward entry door stop fitting with a new fitting, in accordance with the service bulletin.

(2) Perform a detailed visual inspection of the forward entry door friction plates for wear, in accordance with the service bulletin. If wear is found on any friction plate, and the wear has a depth equal to or greater than 0.8mm (0.0315 in.), prior to further flight, replace the friction plate with a new or serviceable part in accordance with the service bulletin.

(f) For Model ATR42-300 series airplanes listed in ATR Service Bulletin ATR42-52-0052, Revision 1, dated March 2, 1993, accomplishment of the requirements of paragraph (g) of this AD at the time specified in paragraph (e) of this AD constitutes terminating action for the requirements of paragraph (e) of this AD.

(g) For Model ATR42-300 series airplanes listed in ATR Service Bulletin ATR42-52-0059, dated February 16, 1995: Prior to the accumulation of 18,000 total flight cycles, or within 180 days after the effective date of this AD, whichever occurs later, accomplish the requirements of paragraphs (g)(1), (g)(2), and (g)(3) of this AD in accordance with the service bulletin.

(1) Replace the forward entry door friction plates with improved friction plates.

(2) Replace the upper corners of the forward entry door surround structure with improved door surround corners.

(3) Replace the forward entry door stop fittings and bolts with improved fittings and bolts.

Alternative Methods of Compliance

(h) An alternative method of compliance or adjustment of the compliance time that provides an acceptable level of safety may be used if approved by the Manager, International Branch, ANM-116. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(i) Special flight permits may be issued in accordance with §§ 21.197 and 21.199 of the Federal Aviation Regulations (14 CFR 21.197 and 21.199) to operate the airplane to a location where the requirements of this AD can be accomplished.

Incorporation by Reference

(j) Except as required by paragraphs (a)(2)(ii), (c), and (d)(2)(ii) of this AD, the actions shall be done in accordance with the following Avions de Transport Regionale service bulletins, as applicable:

Service bulletin referenced and date | Page number | Revision level shown on page | Date shown on page
ATR42-53-0070, Revision 2, March 22, 1993 | 1, 2, 9 | 2 | March 22, 1993.
| 3-7, 10-12 | 1 | June 12, 1992.
| 8, 13 | Original | June 10, 1991.
ATR42-53-0070, Revision 3, February 19, 1999. | 1-6, 9 | 3 | February 19, 1999
| 7, 10-12 | 1 | June 12, 1992.
| 8, 13 | Original | June 10, 1991.
ATR42-52-0058, Revision 1, March 1, 1995. | 1-117 | 1 | March 1, 1995
| 39-99 | (These pages are not used) |
ATR42-53-0076, Revision 2, October 15, 1996. | 1-6 | 2 | October 15, 1996
| 7, 8, 11, 12, 17-19 | 1 | November 4, 1994.
| 9, 10, 13-16 | Original | May 13, 1993.
ATR42-53-0076, Revision 3, February 19, 1999. | 1-6 | 3 | February 19, 1999
| 7, 8, 11, 12, 17-19 | 1 | November 4, 1994.
| 9, 10, 13-16 | Original | May 13, 1993.
ATR42-52-0052, Revision 1, March 2, 1993. | 1-4, 9, 10 | 1 | March 2, 1993
| 5-8, 11-17 | Original | January 11, 1991.
ATR42-52-0059, February 16, 1995 | 1-43 | Original | February 16, 1995.

(1) The incorporation by reference of Avions de Transport Regionale Service Bulletin ATR42-53-0070, Revision 3, dated February 19, 1999; Avions de Transport Regionale Service Bulletin ATR42-52-0058, Revision 1, dated March 1, 1995; Avions de Transport Regionale Service Bulletin ATR42-53-0076, Revision 2, dated October 15, 1996; Avions de Transport Regionale Service Bulletin ATR42-53-0076, Revision 3, dated February 19, 1999; Avions de Transport Regionale Service Bulletin ATR42-52-0052, Revision 1, dated March 2, 1993; and Avions de Transport Regionale Service Bulletin ATR42-52-0059, dated February 16, 1995; is approved by the Director of the Federal Register in accordance with 5 U.S.C. 552(a) and 1 CFR part 51.

(2) The incorporation by reference of Avions de Transport Regionale Service Bulletin ATR42-53-0070, Revision 2, dated March 22, 1993, was approved previously by the Director of the Federal Registeras of November 18, 1993 (58 FR 53853, October 19, 1993).

(3) Copies may be obtained from Aerospatiale, 316 Route de Bayonne, 31060 Toulouse, Cedex 03, France. Copies may be inspected at the FAA, Transport Airplane Directorate, 1601 Lind Avenue, SW., Renton, Washington; or at the Office of the Federal Register, 800 North Capitol Street, NW., suite 700, Washington, DC.

Note 6: The subject of this AD is addressed in French airworthiness directive 92-044-046(B)R2, dated November 5, 1997.

(k) This amendment becomes effective on April 26, 2000.

Issued in Renton, Washington, on March 9, 2000.
Donald L. Riggin,
Acting Manager, Transport Airplane Directorate, Aircraft Certification Service.

[FR Doc. 00-6328 Filed 3-22-00; 8:45 am]

BILLING CODE 4910-13-U